FEDERAL COMMUNICATIONS COMMISSION

47 CFR Part 27

[GN Docket No. 13-185; FCC 14-31]

Commercial Operations in the 1695-1710 MHz, 1755-1780 MHz, and 2155-2180 MHz Bands

AGENCY: Federal Communications Commission.

ACTION: Correcting amendments.

SUMMARY: The Federal Communications Commission published a rule document in the Federal Register on June 4, 2014, revising Commission rules. That document inadvertently removed certain paragraphs. This document corrects the final regulations by restoring the paragraphs.

DATES: October 1, 2014.

FOR FURTHER INFORMATION CONTACT: Peter Daronco, Broadband Division, Wireless Telecommunications Bureau, at (202) 418-7235 or Peter.Daronco@fcc.gov.

SUPPLEMENTARY INFORMATION: The Federal Communications Commission published a rule document in the Federal Register on June 4, 2014, (79 FR 32366), FCC 14-31, which inadvertently removed § 27.50(d)(5) through (10). This document corrects the final regulations by restoring paragraphs (d)(5) through (10) to § 27.50.

List of Subjects in 47 CFR Part 27

Communications common carriers, Radio.

Accordingly, 47 CFR part 27 is amended by making the following correcting amendment:

PART 27—MISCELLANEOUS WIRELESS COMMUNICATIONS SERVICES

1. The authority citation for part 27 continues to read as follows:

Authority: 47 U.S.C. 154, 301, 302a, 303, 307, 309, 332, 336, 337, 1403, 1404, and 1451 unless otherwise noted.

2. Section 27.50 is amended by adding paragraphs (d)(5) through (10) to read as follows:

§ 27.50 Power limits and duty cycle.

* * * * *

(d) * * *

(5) Equipment employed must be authorized in accordance with the provisions of § 24.51. Power measurements for transmissions by stations authorized under this section may be made either in accordance with a Commission-approved average power technique or in compliance with paragraph (d)(6) of this section. In measuring transmissions in this band using an average power technique, the peak-to-average ratio (PAR) of the transmission may not exceed 13 dB.

(6) Peak transmit power must be measured over any interval of continuous transmission using instrumentation calibrated in terms of an rms-equivalent voltage. The measurement results shall be properly adjusted for any instrument limitations, such as detector response times, limited resolution bandwidth capability when compared to the emission bandwidth, sensitivity, etc., so as to obtain a true peak measurement for the emission in question over the full bandwidth of the channel.

(7) Fixed, mobile, and portable (hand-held) stations operating in the 2000-2020 MHz band are limited to 2 watts EIRP, except that the total power of any portion of an emission that falls within the 2000-2005 MHz band may not exceed 5 milliwatts. A licensee of AWS-4 authority may enter into private operator-to-operator agreements with all 1995-2000 MHz licensees to operate in 2000-2005 MHz at power levels above 5 milliwatts EIRP; except the total power of the AWS-4 mobile emissions may not exceed 2 watts EIRP.

(8) A licensee operating a base or fixed station in the 2180-2200 MHz band utilizing a power greater than 1640 watts EIRP and greater than 1640 watts/MHz EIRP must be coordinated in advance with all AWS licensees authorized to operate on adjacent frequency blocks in the 2180-2200 MHz band.

(9) Fixed, mobile and portable (hand-held) stations operating in the 1915-1920 MHz band are limited to 300 milliwatts EIRP.

(10) A licensee operating a base or fixed station in the 1995-2000 MHz band utilizing a power greater than 1640 watts EIRP and greater than 1640 watts/MHz EIRP must be coordinated in advance with all PCS G Block licensees authorized to operate on adjacent frequency blocks in the 1990-1995 MHz band within 120 kilometers of the base or fixed station operating in this band.

* * * * *

Federal Communications Commission.
Marlene H. Dortch,
Secretary.

[FR Doc. 2014-23477 Filed 9-30-14; 8:45 am]

BILLING CODE 6712-01-P